DEPARTMENT OF JUSTICE

Antitrust Division

Notice Pursuant to the National Cooperative Research and Production Act of 1993—Ultrasonic Metal Welding—Enabling the All Aluminum Vehicle

Notice is hereby given that, on August 6, 2003, pursuant to Section 6(a) of the National Cooperative Research and Production Act of 1993, 15 U.S.C. 4301 et seq. (“the Act”), Ford Motor Company has filed written notifications simultaneously with the Attorney General and the Federal Trade Commission disclosing (1) the identities of the parties and (2) the nature and objectives of the Ultrasonic Metal Welding—Enabling the All Aluminum Vehicle research venture. The notifications were filed for the purpose of invoking the Act's provisions limiting the recovery of antitrust plaintiffs to actual damages under specified circumstances. Pursuant to Section 6(b) of the Act, the identities of the parties are Ford Motor Company, Dearborn, MI; Edison Welding Institute (EWI), Columbus, OH; Sonobond Ultrasonic, Inc., West Chester, PA; and American Technology, Inc. (AmTech), Danbury, CT. The nature and objectives of the venture are to conduct research on ultrasonic metal welding—enabling the all-aluminum vehicle. The activities of this joint venture will be partially funded by an award from the Advanced Technology Program, National Institute of Standards and Technology, Department of Commerce.

Dorothy B. Fountain,
Deputy Director of Operations, Antitrust Division.

[FR Doc. 03-22760 Filed 9-5-03; 8:45 am]

BILLING CODE 4410-11-M